DEPARTMENT OF ENERGY

Federal Energy Regulatory Commission

Combined Notice of Filings

Take notice that the Commission has received the following Natural Gas Pipeline Rate and Refund Report filings:

Filings Instituting Proceedings

Docket Numbers: RP17-915-000.

Applicants: Algonquin Gas Transmission, LLC.

Description: Algonquin Gas Transmission, LLC submits tariff filing per 154.204: Negotiated Rates—Various Capacity Releases to be effective 8/1/2017.

Filed Date: 07/27/2017.

Accession Number: 20170727-5026.

Comment Date: 5:00 p.m. Eastern Time on Tuesday, August 08, 2017.

Docket Numbers: RP17-916-000.

Applicants: Big Sandy Pipeline, LLC.

Description: Big Sandy Pipeline, LLC submits tariff filing per 154.203: Big Sandy Fuel Filing effective 9-1-2017.

Filed Date: 07/27/2017.

Accession Number: 20170727-5166.

Comment Date: 5:00 p.m. Eastern Time on Tuesday, August 08, 2017.

Docket Numbers: RP17-917-000.

Applicants: Southern Star Central Gas Pipeline, Inc.

Description: Southern Star Central Gas Pipeline, Inc. submits tariff filing per 154.204: Vol. 2 Negotiated and Non-Conforming Tenaska Flexible PLS—August Amendment to be effective 8/1/2017.

Filed Date: 07/28/2017.

Accession Number: 20170728-5036.

Comment Date: 5:00 p.m. Eastern Time on Wednesday, August 09, 2017.

Docket Numbers: RP17-918-000.

Applicants: Gulf South Pipeline Company, LP.

Description: Gulf South Pipeline Company, LP submits tariff filing per 154.204: Amendments to Negotiated Rate and Non-conforming Agreements (Pensacola 43993) to be effective 8/1/2017.

Filed Date: 07/28/2017.

Accession Number: 20170728-5049.

Comment Date: 5:00 p.m. Eastern Time on Wednesday, August 09, 2017.

Docket Numbers: RP17-919-000.

Applicants: Gulf South Pipeline Company, LP.

Description: Gulf South Pipeline Company, LP submits tariff filing per 154.204: Cap Rel Neg Rate Agmt (Atlanta Gas 8438 to various eff 8-1-17) to be effective 8/1/2017.

Filed Date: 07/28/2017.

Accession Number: 20170728-5050.

Comment Date: 5:00 p.m. Eastern Time on Wednesday, August 09, 2017.

Docket Numbers: RP17-920-000.

Applicants: Gulf South Pipeline Company, LP.

Description: Gulf South Pipeline Company, LP submits tariff filing per 154.204: Neg Rate Agmt Filing (DTE 47785) to be effective 8/1/2017.

Filed Date: 07/28/2017.

Accession Number: 20170728-5054.

Comment Date: 5:00 p.m. Eastern Time on Wednesday, August 09, 2017.

Docket Numbers: RP17-921-000.

Applicants: Rockies Express Pipeline LLC.

Description: Rockies Express Pipeline LLC submits tariff filing per 154.204: Neg Rate 2017-07-28 StatOil to be effective 8/1/2017.

Filed Date: 07/28/2017.

Accession Number: 20170728-5112.

Comment Date: 5:00 p.m. Eastern Time on Wednesday, August 09, 2017.

Docket Numbers: RP17-922-000.

Applicants: Transcontinental Gas Pipe Line Company.

Description: Transcontinental Gas Pipe Line Company, LLC submits tariff filing per 154.204: Non-Conforming Agreements—Garden State to be effective 9/1/2017.

Filed Date: 07/28/2017.

Accession Number: 20170728-5115.

Comment Date: 5:00 p.m. Eastern Time on Wednesday, August 09, 2017.

Docket Numbers: RP17-923-000.

Applicants: El Paso Natural Gas Company, L.L.C.

Description: El Paso Natural Gas Company, L.L.C. submits tariff filing per 154.601: Negotiated Rate Agreement Update (APS Aug 2017) to be effective 8/1/2017.

Filed Date: 07/28/2017.

Accession Number: 20170728-5117.

Comment Date: 5:00 p.m. Eastern Time on Wednesday, August 09, 2017.

Docket Numbers: RP17-924-000.

Applicants: Trailblazer Pipeline Company LLC.

Description: Trailblazer Pipeline Company LLC submits tariff filing per 154.204: Neg Rate 2017-07-28 4 K's to be effective 8/1/2017.

Filed Date: 07/28/2017.

Accession Number: 20170728-5174.

Comment Date: 5:00 p.m. Eastern Time on Wednesday, August 09, 2017.

Docket Numbers: RP17-925-000.

Applicants: Transcontinental Gas Pipe Line Company.

Description: Transcontinental Gas Pipe Line Company, LLC submits tariff filing per 154.204: Negotiated Rates—Cherokee AGL—Replacement Shippers—Aug 2017 to be effective 8/1/2017.

Filed Date: 07/28/2017.

Accession Number: 20170728-5194.

Comment Date: 5:00 p.m. Eastern Time on Wednesday, August 09, 2017.

Docket Numbers: RP17-926-000.

Applicants: Equitrans, L.P.

Description: Request for Temporary Waiver of certain NAESB Standards of Equitrans, L.P.

Filed Date: 07/28/2017.

Accession Number: 20170728-5231.

Comment Date: 5:00 p.m. Eastern Time on Monday, August 07, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated July 31, 2017.
Nathaniel J. Davis, Sr.
Deputy Secretary.

[FR Doc. 2017-16760 Filed 8-8-17; 8:45 am]

BILLING CODE 6717-01-P